FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-055.

Title: West Coast of South America Discussion Agreement.

Parties: Compania Chilena de Navigacion Interoceanica, S.A.; Compania Sud Americana de Vapores, S.A.; Frontier Liner Services, Inc.; Hamburg-Süd; Interocean Lines, Inc.; King Ocean Services Limited, Inc.; Mediterranean Shipping Company, SA; Seaboard Marine Ltd.; South Pacific Shipping Company, Ltd. (d/b/a Ecuadorian Line); and Trinity Shipping Line.

Filing Party: Wayne R. Rohde, Esq.; Cozen O'Conner; 1627 I Street NW., Suite 1100; Washington, DC 20006-4007.

Synopsis: The amendment deletes Interocean Lines, Inc. and South Pacific Shipping Company, Ltd. (d/b/a Ecuadorian Line) as members from the agreement, effective August 16, 2014.

Agreement No.: 201225.

Title: ITS Terminal Cooperative Working Agreement Port of Long Beach.

Parties: Ports America Terminal Holdings II, Inc.; Kawasaki Kisen Kaisha, Ltd; and International Transportation Services, Inc.

Filing Party: J. Michael Cavanaugh; Holland & Knight; 800 17th Street NW., Suite 1100; Washington, DC 20006.

Synopsis: The agreement would authorize the parties to enter into a joint venture to operate an existing marine terminal at the Port of Long Beach. The Parties request expedited review.

Agreement No.: 201226.

Title: Husky Terminal Cooperative Working Agreement Port of Tacoma.

Parties: Ports America Terminal Holdings II, Inc.; Kawasaki Kisen Kaisha, Ltd; and International Transportation Services, Inc.

Filing Party: J. Michael Cavanaugh; Holland & Knight; 800 17th Street NW., Suite 1100; Washington, DC 20006.

Synopsis: The agreement would authorize the parties to enter into a joint venture to operate an existing marine terminal at the Port of Tacoma. The Parties request expedited review.

By Order of the Federal Maritime Commission.
Dated: August 8, 2014.
Karen V. Gregory,
Secretary.

[FR Doc. 2014-19183 Filed 8-13-14; 8:45 am]

BILLING CODE 6730-01-P